DEPARTMENT OF THE INTERIOR

National Park Service

[NPS-WASO-NRNHL-16342; PPWOCRADI0, PCU00RP14.R50000]

National Register of Historic Places; Notification of Pending Nominations and Related Actions

Nominations for the following properties being considered for listing or related actions in the National Register were received by the National Park Service before July 26, 2014. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by September 8, 2014. Before including your address, phone number, email address, or other personal identifying information in your comment, you should be aware that your entire comment—including your personal identifying information—may be made publicly available at any time. While you can ask us in your comment to withhold your personal identifying information from public review, we cannot guarantee that we will be able to do so.

Dated: August 1, 2014.
Rustin Quaide,
Acting Chief, National Register of Historic Places/, National Historic Landmarks Program.

DELAWARE

Sussex County

Burton—Blackstone—Carey Store, 103 State St., Millsboro, 14000551

FLORIDA

Lake County

Dyches House, 240 E. Lady Lake Blvd., Lady Lake, 14000552

St. Johns County

Moultrie Church, 480 Wildwood Dr., St. Augustine, 14000553

GEORGIA

Clarke County

United States Post Office and Court House, 115 E. Hancock St., Athens, 14000554

MAINE

Aroostook County

U.S. Inspection Station—Fort Fairfield, Maine, (U.S. Border Inspection Stations MPS) Boundaryline Rd.,

Fort Fairfield, 14000555

U.S. Inspection Station—Limestone, Maine, (U.S. Border Inspection Stations MPS) ME 229, Limestone, 14000556

U.S. Inspection Station—Orient, Maine, (U.S. Border Inspection Stations MPS) Boundary Line Rd., Orient, 14000557

Franklin County

U.S. Inspection Station—Coburn Gore, Maine, (U.S. Border Inspection Stations MPS) ME 27, Coburn Gore, 14000558

Washington County

U.S. Inspection Station—Calais (Ferry Point), Maine, (U.S. Border Inspection Stations MPS) 1 Main St., Calais, 14000559

MASSACHUSETTS

Barnstable County

Oak Grove Cemetery, 46 Jones Rd., Falmouth, 14000560

Suffolk County

Buildings at 825—829 Blue Hill Avenue, 825-829 Blue Hill Ave., Boston, 14000561

MICHIGAN

Calhoun County

Ward, Frank and Dorothy, House, 257 Lakeshore Dr., Battle Creek, 14000562

MISSISSIPPI

Grenada County

Grenada Downtown Historic District, Bounded by Pearl, Mound, 2nd, South, Lynch & Doak Sts., Grenada, 14000563

Harrison County

Gunston Hall, 1694 Beach Blvd., Biloxi, 14000564

Walker, H.S. and Mattie M., House, 1114 32nd Ave., Gulfport, 14000565

Hinds County

Downtown Fondren Historic District, Roughly along N. State St., Old Canton Rd., Duling Ave. & Fondren Pl., Jackson, 14000566

Lanier Junior—Senior High School (Colored), 833 Maple St., Jackson, 14000567

McRae's Department Store at Meadowbrook Mart, 4206 N. State St., Jackson, 14000568

Pike County

States Area Neighborhood Historic District, Roughly bounded by Delaware, Louisiana, Pennsylvania & 5th Aves., 3rs & 21st Sts., Broadway, Hollywood Cemetery, McComb, 14000571

Warren County

Anshe Chesed Cemetery, Grove St., Vicksburg, 14000569

Washington County

Washington County Courthouse, 900 Washington Ave., Greenville, 14000570

NEW YORK

Clinton County

U.S. Inspection Station—Mooers, New York, (U.S. Border Inspection Stations MPS) NY 22, Mooers, 14000572

U.S. Inspection Station—Rouses Point (Overton Corners), New York, (U.S. Border Inspection Stations MPS) NY 276, Rouses Point, 14000573

U.S. Inspection Station—Rouses Point (St. John's Highway), New York, (U.S. Border Inspection Stations MPS) NY 9B, Rouses Point, 14000574

Franklin County

U.S. Inspection Station—Fort Covington, New York, (U.S. Border Inspection Stations MPS) Dundee Rd., Fort Covington, 14000575

U.S. Inspection Station—Trout River, New York, (U.S. Border Inspection Stations MPS) NY 30, Trout River, 14000576

Genesee County

First Presbyterian Church of Le Roy, 7 Clay St., Le Roy, 14000577

Lewis County

Pinckney Corners Cemetery, Pinckney Rd., Copenhagen, 14000578

Monroe County

North Star School District No. 11, 660 Walker Lake Ontario Rd., Hamlin, 14000579

New York County

Colony Arcade Building, 63-67 W. 38th St., New York, 14000580

Niagara County

Oakwood Cemetery, 763 Portage Rd., Niagara Falls, 14000581

Onondaga County

West Brothers Knitting Company, 700-710 Emerson Ave., Syracuse, 14000582

Schoharie County

St. Paul's Lutheran Church Historic District, 312-314 Main St. & Cemetery Ln., Schoharie, 14000584

St. Lawrence County

Hopkinton Green Historic District, Bounded by NY 11B, Cty. Rd. 49 & Church St., Hopkinton, 14000583

Steuben County

Western New York Wine Company, 9683 Middle Rd., Pulteney, 14000585

Westchester County

South Salem Presbyterian Church Cemetery, 111 Spring St., South Salem, 14000586

NORTH DAKOTA

Divide County

U.S. Inspection Station—Ambrose, North Dakota, (U.S. Border Inspection Stations MPS) ND 42, Ambrose, 14000587

Rolette County

U.S. Inspection Station—St. John, North Dakota, (U.S. Border Inspection Stations MPS) ND 30, St. John, 14000588

OHIO

Butler County

Hotel Manchester, 1027 Manchester Ave., Middletown, 14000589

Greene County

Downtown Xenia Historic District, Bounded by Church, Galloway, 3rd & Collier Sts., Xenia, 14000590

Lake County

Mentor Village Hall, 8383 Mentor Ave., Mentor, 14000591

OKLAHOMA

Canadian County

Meloy House, 131 W. Carson Dr., Mustang, 14000592

Creek County

Depew Route 66 Segment, (Route 66 in Oklahoma MPS) US 66 E. from Milfay Rd. for .46 mi., Depew, 14000593

Oklahoma County

Kelley Club, 2300 N. Kelley Ave., Oklahoma City, 14000594

Oklahoma City Ford Motor Company Assembly Plant, 900 W. Main St., Oklahoma City, 14000595

Payne County

Long Branch Creek Bridge, 1/8 mi. N. of jct. of N3300 & E0540, Stillwater, 14000596

Woods County

Waynoka Telephone Exchange Building, 200 S. Main St., Waynoka, 14000597

OREGON

Multnomah County

Honeyman, Walter B. & Myrtle E., House, 2658 NW. Cornell Rd., Portland, 14000598

SOUTH CAROLINA

Richland County

Thurmond, Strom, Federal Building and U.S. Courthouse, 1835-1845 Assembly St., Columbia, 14000599

TEXAS

Webb County

U.S. Inspection Station—Laredo, Texas, (U.S. Border Inspection Stations MPS) 100 Convent Ave., Laredo, 14000600

VERMONT

Essex County

U.S. Inspection Station—Beecher Falls, Vermont, (U.S. Border Inspection Stations MPS) 1429 VT 253, Canaan, 14000602

U.S. Inspection Station—Canaan, Vermont, (U.S. Border Inspection Stations MPS) 387 VT 141, Canaan, 14000601

U.S. Inspection Station—Norton, Vermont, (U.S. Border Inspection Stations MPS) 115 VT 147N, Norton, 14000603

Franklin County

U.S. Inspection Station—East Rockford, Vermont, (U.S. Border Inspection Stations MPS) 357 Glen Sutton Rd., Richford, 14000604

U.S. Inspection Station—Richford, Vermont, (U.S. Border Inspection Stations MPS) VT 139, Richford, 14000605

U.S. Inspection Station—West Berkshire, Vermont, (U.S. Border Inspection Stations MPS) 7823 W. Berkshire Rd., Berkshire, 14000606

Grand Isle County

U.S. Inspection Station—Alburg Springs, Vermont, (U.S. Border Inspection Stations MPS) 303 Alburg Springs Rd., Alburg, 14000607

Orleans County

U.S. Inspection Station—Beebe Plain, Vermont, (U.S. Border Inspection Stations MPS) 3136 Beebe Rd., Derby, 14000608

U.S. Inspection Station—Derby Line, Vermont, (U.S. Border Inspection Stations MPS) 84 Main St., Derby, 14000609

U.S. Inspection Station—North Troy, Vermont, (U.S. Border Inspection Stations MPS) 743 VT 243, Troy, 14000610

WASHINGTON

Ferry County

U.S. Inspection Station—Ferry, Washington, (U.S. Border Inspection Stations MPS) 3559 T.B.C. Rd., Curlew, 14000611

U.S. Inspection Station—Laurier, Washington, (U.S. Border Inspection Stations MPS) US 395, Laurier, 14000612

Klickitat County

Klickitat County Courthouse, 205 S. Columbus Ave., Goldendale, 14000613

Mason County

Twanoh State Park, 12190 E. WA 106, Union, 14000614

WISCONSIN

Fond Du Lac County

McDermott, William and Annie, House, 109 S. Park Ave., Fond du Lac, 14000616

A request to move has been received for the following resource:

OKLAHOMA

Oklahoma County

Douglas DC-3 Airplane, N34, 6500 S. MacArthur Blvd., Hangar 10, Oklahoma City, 97000443

A request for removal has been received for the following resource:

INDIANA

Marshall County

Woodbank, 2738 East Shore Ln., Lake Maxinkuckee, Culver, 82000022

[FR Doc. 2014-19924 Filed 8-21-14; 8:45 am]

BILLING CODE 4312-51-P